DEPARTMENT OF JUSTICE

Office of Justice Programs

[OJP (OJP) Docket No. 1654]

Request for Nominations to the Office of Justice Programs' Science Advisory Board

AGENCY: Office of Justice Programs (OJP), DOJ.

ACTION: Notice of Request for Nominations.

SUMMARY: This notice announces that OJP is seeking nominations of individuals to serve on the OJP Science Advisory Board (“Board”). The Board was established by the Attorney General in 2010. It is chartered to provide OJP, a component of the Department of Justice, with valuable advice in the areas of science and statistics for the purpose of enhancing the overall impact and performance of its programs and activities in criminal and juvenile justice. To this end, the Board currently operates with six (6) subcommittees: National Institute of Justice (NIJ); Bureau of Justice Statistics (BJS); Office of Juvenile Justice and Delinquency Prevention (OJJDP); Bureau of Justice Assistance (BJA); Quality and Protection of Science; and Evidence Translation/Integration.

DATES: Nominations will be accepted through August 29, 2014.

FOR FURTHER INFORMATION CONTACT: Phelan Wyrick, Designated Federal Officer (DFO), Office of the Assistant Attorney General, Office of Justice Programs, 810 7th Street Northwest, Washington, DC 20531; Phone: (202) 353-9254 [Note: this is not a toll-free number]; Email: phelan.wyrick@usdoj.gov.

SUPPLEMENTARY INFORMATION: To make a nomination, please contact Mr. Wyrick (see above for addresses and phone numbers). Nominations should include the name, title, affiliation, and contact information for the nominee. Resumes, statements of interest, and other relevant supporting information are welcome. Self-nominations are welcome.

The Board typically meets twice a year to brief the OJP Assistant Attorney General and the Board members on the progress of the subcommittees, discuss any recommendations they may have for consideration by the full SAB, and brief the Board on various OJP-related projects and activities. All meetings of the Board take place in Washington, DC. The Board is a federal advisory committee covered under the Federal Advisory Committee Act, and as such, meetings of the Board are open to the public. Members of the Board include scientists and practitioners with strong backgrounds of applying science in the fields of criminal justice, juvenile justice, or crime victim services. Current Board members are completing their initial four year terms of service in 2014.

Phelan Wyrick,
Science Policy Advisor and SAB DFO, Office of the Assistant Attorney General, Office of Justice Programs.

[FR Doc. 2014-12923 Filed 6-3-14; 8:45 am]

BILLING CODE 4410-18-P